POSTAL REGULATORY COMMISSION

[Docket No. CP2016-57; Order No. 2895]

New Postal Product

AGENCY: Postal Regulatory Commission.

ACTION: Notice.

SUMMARY: The Commission is noticing a recent Postal Service filed a notice it has entered into an Inbound Competitive Multi-Service Agreement with Foreign Postal Operators 1 Canada Post Corporation. This notice informs the public of the filing, invites public comment, and takes other administrative steps.

DATES: Comments are due: December 24, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On December 16, 2015, the Postal Service filed notice that it has entered into an Inbound Competitive Multi-Service Agreement with a Foreign Postal Operator (Agreement) ¹ within the Inbound Competitive Multi-Service Agreement with Foreign Postal Operators 1 (MC2010-34) product. On December 17, 2015, the Postal Service filed a notice of filing of errata concerning the financial workpapers in the Notice.²

¹ Notice of United States Postal Service of Filing Functionally Equivalent Inbound Competitive Multi-Service Agreement with a Foreign Postal Operator, December 16, 2015 (Notice).

² Notice of the United States Postal Service of Filing Errata Concerning Financial Workpapers Included in Notice of United States Postal Service of Filing Functionally Equivalent Inbound Competitive Multi-Service Agreement with a Foreign Postal Operator, December 17, 2015 (Errata Notice).

The Agreement replaces an agreement with Canada Post, expiring December 31, 2015, that was the subject of Docket No. CP2014-13. Notice at 3. The Postal Service asserts the negotiated service agreement is functionally equivalent to the baseline agreement filed in Docket No. MC2010-34. Id. at 2.

To support its Notice, the Postal Service filed a copy of the Agreement, a copy of the Governors' Decision authorizing the product, a certification of compliance with 39 U.S.C. 3633(a), and an application for non-public treatment of certain materials. It also filed supporting financial workpapers.

II. Notice of Commission Action

The Commission establishes Docket No. CP2016-57 for consideration of matters raised by the Notice.

The Commission invites comments on whether the Postal Service's filing is consistent with 39 U.S.C. 3632, 3633, or 3642, 39 CFR part 3015, and 39 CFR part 3020, subpart B. Comments are due no later than December 24, 2015. The public portions of the filing can be accessed via the Commission's Web site (http://www.prc.gov).

The Commission appoints Katalin K. Clendenin to serve as Public Representative in this docket.

III. Ordering Paragraphs

It is ordered:

1. The Commission establishes Docket No. CP2016-57 for consideration of the matters raised by the Postal Service's Notice.

2. Pursuant to 39 U.S.C. 505, Katalin K. Clendenin is appointed to serve as an officer of the Commission to represent the interests of the general public in this proceeding (Public Representative).

3. Comments are due no later than December 24, 2015.

4. The Secretary shall arrange for publication of this order in the Federal Register.

By the Commission.
Stacy L. Ruble,
Secretary.

[FR Doc. 2015-32240 Filed 12-22-15; 8:45 am]

BILLING CODE 7710-FW-P